NATIONAL AERONAUTICS AND SPACE ADMINISTRATION

[Notice 00-115]

NASA Advisory Council (NAC), Space Science Advisory Committee (SScAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astrobiology Task Force.

DATES: Monday, October 30, 2000, 8:15 a.m. to 5:30 p.m.; and Tuesday, October 31, 2000, 8:15 a.m. to 5:30 p.m.

ADDRESSES: Ames Research Center, Building 3 Conference Center, Moffett Field, CA.

FOR FURTHER INFORMATION CONTACT: Dr. Anne Kinney, Code S, National Aeronautics and Space Administration, Washington, DC 20546, 202/358-2150.

SUPPLEMENTARY INFORMATION: The meeting will be open to the public up to the capacity of the room. The agenda for the meeting is as follows:

• Astrobiology at NASA Status

• NAI Status and Science

• Astrobiology at Ames

• NARL and the Ames Research Park

• Technology NRA and ASTEP

• Technology Plan for Mars and Beyond

• The New Mars Architecture

• Senior Review Process and Astrobiology

• New Initiatives in AB.

It is imperative that the meeting be held on these dates to accommodate the scheduling priorities of the key participants. Visitors will be requested to sign a visitor's register.

Beth M. McCormick,
Advisory Committee Management Officer, National Aeronautics and Space Administration.

[FR Doc. 00-24401 Filed 9-21-00; 8:45 am]

BILLING CODE 7510-01-P